ENVIRONMENTAL PROTECTION AGENCY

40 CFR Part 152

[EPA-HQ-OPP-2009-0456; FRL-8858-2]

RIN 2070-AJ58

Pesticides; Satisfaction of Data Requirements; Procedures To Ensure Protection of Data Submitters' Rights; Extension of Comment Period

AGENCY: Environmental Protection Agency (EPA).

ACTION: Proposed rule; extension of comment period.

SUMMARY: EPA issued a proposed rule in the Federal Register of November 5, 2010, concerning the revision of its regulations which govern procedures for the satisfaction of data requirements under the Federal Insecticide, Fungicide, and Rodenticide Act (FIFRA). EPA received two requests to extend the comment period for this proposed rule. This document extends the comment period for 30 days, from January 4, 2011 to February 3, 2011.

DATES: Comments, identified by docket identification (ID) number EPA-HQ-OPP-2009-0456, must be received on or before February 3, 2011.

ADDRESSES: Follow the detailed instructions as provided under ADDRESSES in the Federal Register document of November 5, 2010.

FOR FURTHER INFORMATION CONTACT: Cameo G. Smoot, Field and External Affairs Division, Office of Pesticide Programs, Environmental Protection Agency, 1200 Pennsylvania Ave., NW., Washington, DC 20460-0001; telephone number: (703) 305-5454; fax number: (703) 305-5884; e-mail address: smoot.cameo@epa.gov.

SUPPLEMENTARY INFORMATION: This document extends the public comment period established in the Federal Register of November 5, 2010 (75 FR 68297) (FRL-8424-8). In that document, EPA proposed to review its regulations which govern procedures for the satisfaction of data requirements under the Federal Insecticide, Fungicide, and Rodenticide Act (FIFRA). EPA is hereby extending the comment period, which was set to end on January 4, 2011, to February 3, 2011.

To submit comments, or access the docket, please follow the detailed instructions as provided under ADDRESSES in the November 5, 2010 Federal Register document. If you have questions, consult the person listed under FOR FURTHER INFORMATION CONTACT.

List of Subjects in 40 CFR Part 152

Environmental protection, Administrative practice and procedure, Pesticides and pests, Reporting and recordkeeping requirements.

Dated: December 27, 2010.
Marylouise M. Uhlig,
Acting Assistant Administrator for the Office of Chemical Safety and Pollution Prevention.

[FR Doc. 2010-33201 Filed 1-3-11; 8:45 am]

BILLING CODE 6560-50-P